INTERNATIONAL TRADE COMMISSION

Public Availability of the U.S. International Trade Commission's FY 2015 Service Contract Inventory

AGENCY: U.S. International Trade Commission.

ACTION: Notice of public availability of FY 2015 Service Contract Inventory.

SUMMARY: In accordance with Section 743 of Division C of the Consolidated Appropriations Act of 2010 (Pub. L. 111-117), the U.S. International Trade Commission is publishing this notice to advise the public of the availability of the FY 2015 Service Contract Inventory. The USITC has posted its inventory and a summary of the inventory on USITC's Web site at the following link: http://www.usitc.gov/procurement.htm.

This inventory provides information on service contract actions over $25,000 that were awarded in FY 2015. The information is organized by function to show how contracted resources are distributed throughout the agency. The inventory has been developed in accordance with guidance issued on November 5, 2010, and December 19, 2011, by the Office of Management and Budget's Office of Federal Procurement Policy.

Questions regarding the service contract inventory should be directed to Debra Bridge, Office of Procurement, U.S. International Trade Commission, at 202-205-2004 or debra.bridge@usitc.gov.

By order of the Commission.
Issued: April 14, 2016.
Lisa R. Barton,
Secretary to the Commission.

[FR Doc. 2016-09072 Filed 4-19-16; 8:45 am]

BILLING CODE 7020-02-P